DEPARTMENT OF JUSTICE

[OMB Number 1125-0006]

Agency Information Collection Activities; Proposed eCollection eComments Requested; Notice of Entry of Appearance as Attorney or Representative Before the Immigration Court

AGENCY: Executive Office for Immigration Review, Department of Justice.

ACTION: 60-Day notice.

SUMMARY: The Department of Justice (DOJ), Executive Office for Immigration Review (EOIR), will be submitting the following information collection request to the Office of Management and Budget (OMB) for review and approval in accordance with the Paperwork Reduction Act of 1995. The proposed information collection is published to obtain comments from the public and affected agencies.

DATES: Comments are encouraged and will be accepted for 60 days until August 4, 2014.

FOR FURTHER INFORMATION CONTACT: If you have comments, especially on the estimated public burden or associated response time, suggestions, or need a copy of the proposed information collection instrument with instructions or additional information, please contact Jeff Rosenblum, General Counsel, Executive Office for Immigration Review, U.S. Department of Justice, Suite 2600, 5107 Leesburg Pike, Falls Church, Virginia, 20530; telephone: (703) 305-0470.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Executive Office for Immigration Review, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This information collection:

1 Type of Information Collection: Revision and extension of a currently approved collection.

2 The Title of the Form/Collection: Notice of Entry of Appearance as Attorney or Representative Before the Immigration Court.

3 The agency form number, if any, and the applicable component of the Department sponsoring the collection: The form number is EOIR-28, Executive Office for Immigration Review, United States Department of Justice.

4 Affected public who will be asked or required to respond, as well as a brief abstract:

Primary: Attorneys and qualified representatives notifying the Immigration Court that they are representing an alien in immigration proceedings. Other: None. Abstract: This information collection is necessary to allow an attorney or representative to notify the Immigration Court that he or she is representing an alien before the Immigration Court.

5 An estimate of the total number of respondents and the amount of time estimated for an average respondent to respond: It is estimated that 179,856 respondents will complete the form annually with an average of 6 minutes per response.

6 An estimate of the total public burden (in hours) associated with the collection: The estimated public burden associated with this collection is 17,985 hours. It is estimated that respondents will take six minutes to complete the form.

If additional information is required contact: Jerri Murray, Department Clearance Officer, United States Department of Justice, Justice Management Division, Policy and Planning Staff, Two Constitution Square, 145 N Street NE., 3E.405B, Washington, DC 20530.

Dated: May 29, 2014.
Jerri Murray,
Department Clearance Officer for PRA, U.S. Department of Justice.

[FR Doc. 2014-12836 Filed 6-3-14; 8:45 am]

BILLING CODE 4410-30-P